DEPARTMENT OF HEALTH AND HUMAN SERVICES

Solicitation of Written Comments on Draft Centers for Disease Control and Prevention's Immunization Safety Office Scientific Agenda

AGENCY: Department of Health and Human Services, Office of the Secretary.

ACTION: Notice; correction.

SUMMARY: The Department of Health and Human Services published a document in the Federal Register of January 2, 2009 soliciting comments on the draft Centers for Disease Control and Prevention's Immunization Safety Office Scientific Agenda. Within the instructions for submitting comments electronically there was a typographical error in the e-mail address. The National Vaccine Program Office (NVPO) is requesting resubmission of any public comments sent prior to January 16, 2009 in response to the previously published Request for Information on the Immunization Safety Office Scientific Agenda.

FOR FURTHER INFORMATION CONTACT: Ms. Kirsten Vannice, (202) 690-5566; e-mail vaccinesafetyRFI@hhs.gov.

Correction

In the Federal Register of January 2, 2009, Vol. 74, No. 1, on page 107, in the 3rd column, correct the ADDRESSES caption to read:

ADDRESSES: Electronic responses are preferred and may be addressed to vaccinesafetyRFI@hhs.gov. Written responses should be addressed to the National Vaccine Program Office, U.S. Department of Health and Human Services, 200 Independence Avenue, SW., Washington, DC 20201, Attention: Vaccine Safety RFI.

Dated: January 22, 2009.
Bruce Gellin,
Deputy Assistant Secretary for Health, Director, National Vaccine Program Office, U.S. Department of Health and Human Services.

[FR Doc. E9-1692 Filed 1-26-09; 8:45 am]

BILLING CODE 4150-28-P